DEPARTMENT OF THE INTERIOR

Fish and Wildlife Service

Notice of Availability of the Recovery Plan for the Endangered Spring Creek Bladderpod (Lesquerella perforata)

AGENCY: Fish and Wildlife Service, Interior.

ACTION: Notice of document availability.

SUMMARY: We, the U.S. Fish and Wildlife Service, announce the availability of the final recovery plan for the endangered Spring Creek bladderpod (Lesquerella perforata). This species is an annual plant endemic to the Central Basin in Tennessee. It is currently known from only three watersheds (Spring Creek, Bartons Creek, and Cedar Creek) in Wilson County, Tennessee. The recovery plan includes specific recovery objectives and criteria to downlist this species to threatened status and delist it under the Endangered Species Act of 1973, as amended (Act).

ADDRESSES: Printed copies of this recovery plan are available by request from the Tennessee Field Office, U.S. Fish and Wildlife Service, 446 Neal Street, Cookeville, Tennessee 38501 (telephone 931/528-6481). An electronic copy of the recovery plan is available on the World Wide Web at http://www.fws.gov/endangered/recovery/index.html.

FOR FURTHER INFORMATION CONTACT: Timothy Merritt, Recovery Coordinator, at the above address and telephone number.

SUPPLEMENTARY INFORMATION:

Background

Restoring endangered or threatened animals or plants to the point where they are again secure, self-sustaining members of their ecosystems is a primary goal of the Act and our endangered species program. The Act requires the development of recovery plans for listed species, unless such a plan would not promote the conservation of a particular species. Recovery plans help guide the recovery effort by describing actions considered necessary for the conservation of the species, establishing criteria for downlisting or delisting listed species, and estimating time and cost for implementing the necessary recovery measures.

Section 4(f) of the Act requires that public notice, and an opportunity for public review and comment, be provided during recovery plan development. The technical agency draft recovery plan for the Spring Creek bladderpod was available for public comment from September 12, 2005, through November 14, 2005 (70 FR 53808). We received no comments from interested parties. We received comments from the three Spring Creek bladderpod experts who served as official peer reviewers of the recovery plan. The comments and information submitted by peer reviewers were considered in the preparation of this final plan and, where appropriate, were incorporated into the plan.

The Spring Creek bladderpod was listed as endangered on January 22, 1997 (61 FR 67493). This annual plant, endemic to the Central Basin in Tennessee, is restricted to the floodplains of three creeks (Bartons, Spring, and Cedar) in Wilson County, Tennessee. It can be found in agricultural fields, pastures, glades, and disturbed areas. The Spring Creek bladderpod requires some degree of disturbance, such as scouring from natural flooding or plowing of the soil, to complete its life cycle.

Factors contributing to its endangered status are an extremely limited range and loss of habitat. The main threat is the loss of habitat by conversion of land to uses other than cultivation of annual crops, primarily rapid commercial, residential, and industrial development occurring throughout Wilson County. Encroachment of more competitive herbaceous and woody plants also presents a threat.

The objective of this recovery plan is to provide a framework for the recovery of this species so that protection under the Act is no longer necessary. The recovery plan includes specific recovery objectives and downlisting and delisting criteria. As recovery criteria are met, the status of the species will be reviewed and it will be considered for removal from the Federal List of Endangered and Threatened Plants (50 CFR 17.12). Actions needed to recover the Spring Creek bladderpod include: (1) Protect and manage existing occurrences and habitats; (2) develop and implement management strategies for the species; (3) develop communication with local officials to coordinate county planning; (4) utilize existing environmental laws to protect the plant and its floodplain habitat; (5) conduct monitoring at all sites; (6) conduct seed ecology studies; (7) search for new populations; (8) establish new occurrences within the historic range; (9) maintain seed source ex situ; (10) develop and implement public education plans; (11) annually assess the success of recovery efforts for the species.

The authority for this action is section 4(f) of the Endangered Species Act, 16 U.S.C. 1533(f).

Dated: July 12, 2006.
Cynthia K. Dohner,
Acting Regional Director, Southeast Region.

[FR Doc. E6-14689 Filed 9-5-06; 8:45 am]

BILLING CODE 4310-55-P